DEPARTMENT OF TRANSPORTATION

Office of the Secretary

Notice of Applications for Certificates of Public Convenience and Necessity and Foreign Air Carrier Permits Filed Under Subpart B (Formerly Subpart Q) During the Week Ending April 23, 2004

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: OST-2004-17594.

Date Filed: April 19, 2004.

Due Date for Answers, Conforming Applications, or Motion to Modify Scope: May 10, 2004.

Description: Application of Express.Net Airlines, LLC, requesting a certificate of public convenience and necessity to engage in scheduled foreign air transportation of property and mail between any point or points in the U.S. and any point or points in Mexico, and to integrate such authority with Express.Net's existing authority.

Maria Gulczewski,
Supervisory Dockets Officer, Alternate Federal Register Liaison.

[FR Doc. 04-10471 Filed 5-6-04; 8:45 am]

BILLING CODE 4910-62-P